DEPARTMENT OF TRANSPORTATION

Federal Aviation Administration

14 CFR Part 39

[Docket No. FAA-2005-22748; Directorate Identifier 2005-NM-127-AD]

RIN 2120-AA64

Airworthiness Directives; Fokker Model F.28 Mark 0070 and 0100 Airplanes

AGENCY: Federal Aviation Administration (FAA), Department of Transportation (DOT).

ACTION: Notice of proposed rulemaking (NPRM).

SUMMARY: The FAA proposes to adopt a new airworthiness directive (AD) for certain Fokker Model F.28 Mark 0070 and 0100 airplanes. This proposed AD would require modifying the passenger door and installing new placards. This proposed AD results from reports of the airstairs-type passenger door opening during flight. We are proposing this AD to prevent rapid decompression of the airplane, or ejection of a passenger or crew member out the door during flight.

DATES: We must receive comments on this proposed AD by November 21, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Fokker Services B.V., P.O. Box 231, 2150 AE Nieuw-Vennep, the Netherlands.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “FAA-2005-22748; Directorate Identifier 2005-NM-127-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority—The Netherlands (CAA-NL), which is the airworthiness authority for the Netherlands, notified us that an unsafe condition may exist on certain Fokker Model F.28 Mark 0070 and 0100 airplanes. The CAA-NL advises of several cases of the airstairs-type passenger door opening during flight on a Model F.28 Mark 0100 airplane. Investigators in all cases concluded that the incidents were not caused by defects in the design of the operating mechanism or the warning system, but probably resulted from incorrect use of the locking handle. Opening of the passenger door during flight could result in rapid decompression of the airplane, or a passenger or crew member being ejected out the door during flight.

The passenger door operating mechanism and warning system is the same on both Model F.28 Mark 0100 and 0700 airplanes. Therefore, both of these airplane models are subject to the identified unsafe condition.

Relevant Service Information

Fokker Services B.V. has issued Service Bulletin SBF100-52-069, Revision 3, dated December 18, 2002; including Manual Change Notification—Operational Documentation MCNO-F100-031, dated December 3, 2001, and Manual Change Notification—Maintenance Documentation MCNM-F100-064, Revision 2, dated December 18, 2002; and including the drawings listed in the following table. (To conform to certain Office of the Federal Register requirements for incorporating these materials by reference, the table identifies the date of the service bulletin for undated drawings.)

Drawings Included in Service Bulletin SBF100-52-069
Fokker drawing | Sheet | Issue | Date
W41074 | 065 | DB | December 18, 2002.
W41418 | 003 | L | December 18, 2002.
W41418 | 005 | E | December 18, 2002.
W41418 | 006 | E | December 18, 2002.
W41418 | 007 | E | December 18, 2002.
W41418 | 008 | M | December 18, 2002.
W42310 | 001 | D | August 14, 2000.
W42310 | 002 | B | August 14, 2000.
W42310 | 003 | F | June 11, 2001.
W59243 | 024 | AU | June 12, 2001.
W59261 | 017 | W | August 9, 2002.
W59261 | 025 | S | July 3, 2001.

The service bulletin describes procedures for modifying the passenger door. The modification involves installing additional door status indicators above the door, including relays and a flasher, a door status LED indicator, a circuit breaker, and electrical wiring; and making a cut-out in the cover above the passenger door. The service bulletin also describes procedures for installing improved placards at the handle and on the door. Accomplishing the actions specified in the service information is intended to adequately address the unsafe condition. The CAA-NL mandated the service information and issued Dutch airworthiness directive 2002-057, dated April 29, 2002, to ensure the continued airworthiness of these airplanes in the Netherlands.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for airplanes of this type design that are certificated for operation in the United States.

Therefore, we are proposing this AD, which would require accomplishing the actions specified in the service information described previously.

Costs of Compliance

The following table provides the estimated costs for U.S. operators to comply with this proposed AD.

Estimated Costs
Action | Work hours | Average labor rate per hour | Parts | Cost per airplane | Number of U.S.-registered airplanes | Fleet cost
Modify door and install placards | 17-18 | $65 | $2,645 | $3,750-3,815 | 2 | $7,500-7,630

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Fokker Services B.V.: Docket No. FAA-2005-22748; Directorate Identifier 2005-NM-127-AD.

Comments Due Date

(a) The FAA must receive comments on this AD action by November 21, 2005.

Affected ADs

(b) None.

Applicability

(c) This AD applies to Fokker Model F.28 Mark 0070 and 0100 airplanes, certificated in any category, as identified in Fokker Service Bulletin SBF100-52-069, Revision 3, dated December 18, 2002.

Unsafe Condition

(d) This AD results from reports of the airstairs-type passenger door opening during flight. We are issuing this AD to prevent rapid decompression of the airplane, or ejection of a passenger or crew member out the door during flight.

Compliance

(e) You are responsible for having the actions required by this AD performed within the compliance times specified, unless the actions have already been done.

Installation

(f) Within 30 months after the effective date of this AD, modify the passenger door and install new placards, in accordance with the Accomplishment Instructions of Fokker Service Bulletin SBF100-52-069, Revision 3, dated December 18, 2002; including Manual Change Notification—Operational Documentation MCNO-F100-031, dated December 3, 2001, and Manual Change Notification—Maintenance Documentation MCNO-F100-064, Revision 2, dated December 18, 2002; and including the drawings listed in Table 1 of this AD. To conform to certain Office of the Federal Register requirements for incorporating these materials by reference, the table identifies the date of the service bulletin for undated drawings.

Table 1.—Drawings Included in Service Bulletin SBF100-52-069
Fokker drawing | Sheet | Issue | Date
W41074 | 065 | DB | December 18, 2002.
W41418 | 003 | L | December 18, 2002.
W41418 | 005 | E | December 18, 2002.
W41418 | 006 | E | December 18, 2002.
W41418 | 007 | E | December 18, 2002.
W41418 | 008 | M | December 18, 2002.
W42310 | 001 | D | August 14, 2000.
W42310 | 002 | B | August 14, 2000.
W42310 | 003 | F | June 11, 2001.
W59243 | 024 | AU | June 12, 2001.
W59261 | 017 | W | August 9, 2002.
W59261 | 025 | S | July 3, 2001.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(h) Dutch airworthiness directive 2002-057, dated April 29, 2002, also addresses the subject of this AD.

Issued in Renton, Washington, on October 14, 2005.
Kalene C. Yanamura,
Acting Manager, Transport Airplane Directorate, Aircraft Certification Service.

[FR Doc. 05-21054 Filed 10-20-05; 8:45 am]

BILLING CODE 4910-13-P